DEPARTMENT OF TRANSPORTATION

Federal Aviation Administration

Notice of Intent To Rule on Application (05-07-C-00-EUG) To Impose and Use the Revenue From a Passenger Facility Charge (PFC) at Eugene Airport, Mahlon Sweet Field, Submitted by the City of Eugene, Eugene Airport, Mahlon Sweet Field, Eugene, OR

AGENCY: Federal Aviation Administration (FAA), DOT.

ACTION: Notice of intent to rule on application.

SUMMARY: The FAA proposes to rule and invites public comment on the application to impose and use PFC revenue at Eugene Airport, Mahlon Sweet Field under the provisions of 49 U.S.C. 40117 and part 158 of the Federal Aviation Regulations (14 part CFR 158).

DATES: Comments must be received on or before April 27, 2005.

ADDRESSES: Comments on this application may be mailed or delivered in triplicate to the FAA at the following address: J. Wade Bryant, Manager; Seattle Airports District Office, SEA-ADO; Federal Aviation Administration; 1601 Lind Avenue, SW., Suite 250; Renton, WA 98055-4056.

In addition, one copy of any comments submitted to the FAA must be mailed or delivered to Robert P. Noble, Airport Manager, at the following address: 28855 Lockheed Drive, Eugene, OR 97402.

Air Carriers and foreign air carriers may submit copies of written comments previously provided to Eugene Airport, Mahlon Sweet Field, under § 158.23 of part 158.

FOR FURTHER INFORMATION CONTACT: Ms. Suzanne Lee-Pang, 425-227-2654, 1601 Lind Avenue SW., Suite 250, Renton, Washington 98055-4056. The application may be reviewed in person at this same location.

SUPPLEMENTARY INFORMATION: The FAA proposes to rule and invites public comment on the application 05-07-C-00-EUG to impose and use PFC revenue at Eugene Airport, Mahlon Sweet Field, under the provisions of 49 U.S.C. 40117 and part 158 of the Federal Aviation Regulations (14 CFR part 158).

On March 21, 2005, the FAA determined that the application to impose and use the revenue from a PFC submitted by City of Eugene, Eugene Airport—Mahlon Sweet Field, Eugene, Oregon, was substantially complete within the requirements of section 158.25 of part 158. The FAA will approve or disapprove the application, in whole or in part, no later than June 28, 2005.

The following is a brief overview of the application.

Level of the proposed PFC: $4.50.

Proposed charge effective date: September 1, 2007.

Proposed charge expiration date: August 1, 2011.

Total requested for use approval: $4,337,364.

Brief description of proposed project: Terminal Bond Retirement—Revenue Bond Backed; Terminal Bond Retirement—Airport Reserve Backed.

Class or classes of air carrier which the public agency has requested not be required to collect PFC's: Operations by Air Taxi/Commercial Operators utilizing aircraft having a maximum seating capacity of less than twenty passengers when enplaning revenue passengers in a limited, irregular/non-scheduled, or special service manner. Also exempted are operations by Air Taxi/Commercial Operators, without regard to seating capacity, for revenue passengers transported for student instruction, non-stop sightseeing flights that begin and end at Eugene Airport and are conducted within a 25 mile radius of the same airport, fire fighting charters, ferry or training flights, air ambulance/medivac flights, and aerial photography or survey flights.

Any person may inspect the application in person at the FAA office listed above under FOR FURTHER INFORMATION CONTACT and at the FAA Regional Airports Office located at: Federal Aviation Administration, Northwest Mountain Region, Airports Division, ANM-600, 1601 Lind Avenue SW., Suite 315, Renton, WA 98055-4056.

In addition, any person may, upon request, inspect the application, notice and other documents germane to the application in person at the Eugene Airport—Mahlon Sweet Field Airport.

Issued in Renton, Washington on March 21, 2005.
David A. Field,
Manager, Planning, Programming and Capacity Branch, Northwest Mountain Region.

[FR Doc. 05-5964 Filed 3-25-05; 8:45 am]

BILLING CODE 4910-13-M